DEPARTMENT OF STATE

[Public Notice 3572]

Bureau of Educational and Cultural Affairs Request for Grant Proposals: Regional Scholar Exchange Program; Notice: Request for Grant Proposals

SUMMARY: The Office of Academic Exchange Programs of the Bureau of Educational and Cultural Affairs (ECA) announces an open competition for administration of the Regional Scholar Exchange Program for the academic year 2002-2003. Public and private non-profit organizations meeting the provisions described in IRS regulation 26 CFR 1.501(c) may submit proposals to administer recruitment, selection, placement, monitoring, evaluation, and follow-on activities.

Program Information: The Regional Scholar Exchange Program provides opportunities for junior and mid-level university faculty, researchers, and scholars in the social sciences and humanities from the Newly Independent States (NIS) and the United States to receive fellowships for study at U.S. and NIS institutions.

All RSEP fellows are matched with host advisors who guide their research and professional development. All fellows conduct research on specific topics, write academic papers, articles and books, and deliver lectures with the goal of contributing to the further development of higher education and scholarship in their home countries. Fellowships are for a duration of four months for scholars from the NIS and up to nine months for scholars from the United States.

ECA will consider awarding one or more grants for this program. Applicant organizations may apply to recruit and host all fellows or a number of fellows considered feasible and reasonable for the organization. Should more than one organization be selected to administer the program, the Bureau will decide on the distribution of fellows between administering organizations.

Should an applicant organization wish to work with other organizations in the implementation of this program, a sub grant agreement must be arranged. Programs and projects must conform with Bureau requirements and guidelines outlined in the Solicitation Package. ECA programs are subject to the availability of funds. Programs must comply with J-1 Visa regulations. Please refer to Solicitation Package for further information.

Budget Guidelines: Grants awarded to eligible organizations with less than four years of experience in conducting international exchange programs will be limited to $60,000.

Applicants must submit a comprehensive budget for the entire program or any number of fellows that the organization applies to administer. The total award for the entire program will not exceed $2,000,000. If more than one organization is awarded a grant, the Bureau will divide the total funding between the organizations. There must be a summary budget as well as breakdowns reflecting both administrative and program budgets. The Bureau encourages applicants to provide maximum levels of cost sharing and funding from private sources in support of its programs. Applicants may provide separate sub-budgets for each program component, phase, location, or activity to provide clarification. Please refer to the Solicitation Package for complete budget guidelines and formatting instructions.

Announcement Title and Number: All correspondence with the Bureau concerning this RFGP should reference the above title and number ECA/A/E/EUR-01-10.

FOR FURTHER INFORMATION CONTACT: The Office of Academic Exchange Programs, ECA/A/E/EUR, Room 246, U.S. Department of State, 301 4th Street, SW., Washington, DC 20547, Phone: 202-205-0525; Fax: 202-260-7985, ljilka@pd.state.gov to request a Solicitation Package. The Solicitation Package contains detailed award criteria, required application forms, specific budget instructions, and standard guidelines for proposal preparation. Please specify Bureau Program Manager Lucy Jilka on all other inquiries and correspondence. Please read the complete Federal Register announcement before sending inquiries or submitting proposals. Once the RFGP deadline has passed, Bureau staff may not discuss this competition with applicants until the proposal review process has been completed.

To Download a Solicitation Package via Internet: The entire Solicitation Package may be downloaded from the Bureau's website: http://exchanges.state.gov/education/RFGPs. Please read all information before downloading.

Deadline for Proposals: All proposal copies must be received at the Bureau of Educational and Cultural Affairs by 5 p.m. Washington, DC time on April 6, 2001. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/E/EUR-01-10, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the US Embassy for its review, with the goal of reducing the time it takes to get Embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy”, the Bureau “shall take appropriate steps to provide opportunities for participation in such programs to human rights and democracy leaders of such countries.” Public Law 106-113 requires that the governments of the countries described above do not have inappropriate influence in the selection process. Proposals should reflect advancement of these goals in their program content, to the fullest extent deemed feasible.

Review Process

The Bureau will acknowledge receipt of all proposals and will review them for technical eligibility. Proposals will be deemed ineligible if they do not fully adhere to the guidelines stated herein and in the Solicitation Package. All eligible proposals will be reviewed by the program office, as well as the Public Affairs Sections overseas, where appropriate. Eligible proposals will be forwarded to panels of Department of State officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program plan: Proposals should include academic rigor, thorough conception of the project, demonstration of meeting participants' needs, contributions to understanding the partner country, specific details of recruitment, selection, placement, professional development, and monitoring processes, proposed alumni and follow-on activities, alumni tracking, qualifications and expertise of program staff and participants, and relevance to ECA's mission and U.S. foreign policy goals and objectives.

2. Program planning and organizational capacity: A detailed work plan and time line should demonstrate the organization's logistical and administrative capacity to implement the program. Proposals must demonstrate how the organization and its staff will meet the program's objectives and work plan. Proposed personnel and organizational resources should be adequate and appropriate to implement the program requirements and achieve program objectives.

3. Organization's track record: ECA will consider relevant ECA and outside assessments of the organization's experience in developing, implementing, administering, and evaluating scholarly research exchanges with the NIS, including responsible fiscal management and full compliance with all reporting requirements for past ECA grants as determined by ECA's Office of Contracts. ECA will consider the past performance of prior recipients and the demonstrated potential of new applicants.

4. Multiplier effect/impact: Proposed programs must demonstrate an impact on the wider community of scholars, policy makers, opinion-leaders, and public, private, and third sector professionals through the sharing of information and the establishment of long-term institutional and individual linkages among U.S. and NIS scholars and practitioners.

5. Cost effectiveness and cost sharing: The overhead and administrative components of the proposal, including salaries and honoraria, should be kept as low as possible. All other items should be necessary and appropriate. Organizations should maximize cost sharing through other private sector support as well as institutional direct funding contributions.

6. Support of diversity and pluralism: Proposals should demonstrate substantive support of ECA's policy on diversity through the recruitment, selection and placement of participants, to the extent feasible for the applicant organizations.

7. Alumni and follow-on activities: Proposals should provide a plan for alumni and other follow-on activities (without ECA support) which ensures that ECA supported programs are coordinated with and incorporated into other ECA and PAS alumni activities so that fellows may benefit from overall ECA supported alumni programs.

8. Program evaluation: Proposals should include a plan to evaluate the program's success. A results-oriented draft survey questionnaire or other technique plus a description of a methodology to be used to link outcomes to original project objectives is required as well as a comprehensive plan to track participants before, during, and after their fellowships.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Bureau of Educational and Cultural Affairs.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. In addition, it reserves the right to accept proposals in whole or in part and make an award or awards in accordance with what serves the best interest of the Regional Scholar Exchange Program. Awards made will be subject to periodic reporting and evaluation requirements.

Notification

Final awards cannot be made until funds have been appropriated by Congress, allocated and committed through internal Bureau procedures.

Dated: February 7, 2001.
Helena Kane Finn,
Acting Assistant Secretary for Educational and Cultural Affairs, U.S. Department of State.

[FR Doc. 01-3756 Filed 2-14-01; 8:45 am]

BILLING CODE 4710-05-U